DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). This notice relates to the approved information collections under OMB control numbers 1830-0027 and 1830-0567.

FOR FURTHER INFORMATION CONTACT: John LeMaster, Department of Education, 400 Maryland Avenue SW, Room 10-223, Potomac Center Plaza, Washington, DC 20202-7240. Telephone: (202) 245-6218. Email: John.LeMaster@ed.gov.

If you use a telecommunications device for the deaf (TDD) or a text telephone (TTY), call the Federal Relay Service (FRS), toll-free, at 1-800-877-8339.

SUPPLEMENTARY INFORMATION: On January 14, 2008, and as amended on August 19, 2016, we published in the Federal Register final regulations for 34 CFR part 462, Measuring Educational Gain in the National Reporting System for Adult Education (NRS regulations) (73 FR 2305, January 14, 2008, as amended at 81 FR 55552, August 19, 2016). The NRS regulations established the process the Secretary uses to determine the suitability of tests for use in the NRS by States and local eligible providers. We annually publish in the Federal Register, and post on the internet at www.nrsweb.org, a list of the names of tests and the educational functioning levels the tests are suitable to measure in the NRS as required by § 462.12(c)(2).

On August 7, 2020, the Secretary published in the Federal Register (85 FR 47952) an annual notice consolidating information from previous notices that announced tests determined to be suitable for use in the NRS, in accordance with § 462.13 (August 2020 notice). Also, in the August 2020 notice, the Secretary announced that English as a Second Language (ESL) tests and test forms approved for an extended period through February 2, 2021, are approved for an additional extended period through February 2, 2023, and that an Adult Basic Education (ABE) test and test forms previously approved for a three-year period through March 7, 2021, are approved for an extended period through March 7, 2023.

On December 6, 2021, the Secretary published in the Federal Register (86 FR 69021), an annual notice with the same list of approved tests and test forms as was published in the August 2020 notice (December 2021 notice).¹

¹ The December 6, 2021 notice restated the October 21, 2021 notice (86 FR 58258), as it was amended by the November 15, 2021 notice (86 FR 63007).

In this notice, the Secretary announces that ESL tests and test forms previously approved for an extended period through February 2, 2023, are approved for an additional extended period through February 2, 2024, and that an ABE test and test forms previously approved for an extended period through March 7, 2023, are approved for an additional extended period through March 7, 2024.

The Secretary is taking this action with respect to the previously approved tests and test forms, due to the Department's desire to minimize the continuing potential disruption in access to new tests for its grantees caused by the Novel Coronavirus Disease (COVID-19).

Adult education programs must use only the forms and computer-based delivery formats for the tests approved in this notice. If a particular test form or computer delivery format is not explicitly specified for a test in this notice, it is not approved for use in the NRS.

TESTS DETERMINED TO BE SUITABLE FOR USE IN THE NRS FOR A SEVEN-YEAR PERIOD FROM THE PUBLICATION DATE OF THE ORIGINAL NOTICE IN WHICH THEY WERE ANNOUNCED:

The Secretary has determined that the following test is suitable for use in Literacy/English Language Arts and Mathematics at all ABE levels of the NRS until September 7, 2024:

(1) Tests of Adult Basic Education (TABE 11/12). Forms 11 and 12 are approved for use on paper and through a computer-based delivery format. Publisher: Data Recognition Corporation—CTB, 13490 Bass Lake Road, Maple Grove, MN 55311. Telephone: 800-538-9547. Internet: www.ctb.com/.

The Secretary has determined that the following test is suitable for use in Literacy/English Language Arts at all ABE levels of the NRS until February 5, 2025:

(1) Comprehensive Adult Student Assessment System (CASAS) Reading GOALS Series. Forms 901, 902, 903, 904, 905, 906, 907, and 908 are approved for use on paper and through a computer-based delivery format. Publisher: CASAS, 5151 Murphy Canyon Road, Suite 220, San Diego, CA 92123-4339. Telephone: (800) 255-1036. Internet: www.casas.org/.

The Secretary has determined that the following tests are suitable for use at ABE levels 2 through 6 of the NRS until May 2, 2026:

(1) Massachusetts Adult Proficiency Test—College and Career Readiness (MAPT-CCR) for Reading. This test is approved for use through a computer-adaptive delivery format. Publisher: Massachusetts Department of Elementary and Secondary Education and University of Massachusetts Amherst, College of Education, N110, Furcolo Hall, 813 North Pleasant Street Amherst, MA 01003. Telephone: (413) 545-0564. Internet: www.doe.mass.edu/acls/assessment/.

(2) Massachusetts Adult Proficiency Test—College and Career Readiness (MAPT-CCR) for Mathematics. This test is approved for use through a computer-adaptive delivery format. Publisher: Massachusetts Department of Elementary and Secondary Education and University of Massachusetts Amherst, College of Education, N110, Furcolo Hall, 813 North Pleasant Street, Amherst, MA 01003. Telephone: (413) 545-0564. Internet: www.doe.mass.edu/acls/assessment/.

TEST DETERMINED TO BE SUITABLE FOR USE IN THE NRS FOR A THREE-YEAR PERIOD FROM THE PUBLICATION DATE OF THE ORIGINAL NOTICE IN WHICH IT WAS ANNOUNCED, PREVIOUSLY APPROVED FOR AN EXTENDED PERIOD THROUGH MARCH 7, 2023, AND APPROVED FOR AN ADDITIONAL EXTENDED PERIOD THROUGH MARCH 7, 2024:

The Secretary has determined that the following test is suitable for use in Mathematics at all ABE levels of the NRS until March 7, 2024:

(1) Comprehensive Adult Student Assessment System (CASAS) Math GOALS Series. Forms 900, 913, 914, 917, and 918 are approved for use on paper and through a computer-based delivery format. Publisher: CASAS, 5151 Murphy Canyon Road, Suite 220, San Diego, CA 92123-4339. Telephone: (800) 255-1036. Internet: www.casas.org/.

ESL TESTS PREVIOUSLY APPROVED FOR AN EXTENDED PERIOD THROUGH FEBRUARY 2, 2023, AND APPROVED FOR AN ADDITIONAL EXTENDED PERIOD THROUGH FEBRUARY 2, 2024:

The Secretary has determined that the following tests are suitable for use at all ESL levels of the NRS until February 2, 2024:

(1) Basic English Skills Test (BEST) Literacy. Forms B, C, and D are approved for use on paper. Publisher: Center for Applied Linguistics, 4646 40th Street NW, Washington, DC 20016-1859. Telephone: (202) 362-0700. Internet: www.cal.org.

(2) Basic English Skills Test (BEST) Plus 2.0. Forms D, E, and F are approved for use on paper and through the computer-adaptive delivery format. Publisher: Center for Applied Linguistics, 4646 40th Street NW, Washington, DC 20016-1859. Telephone: (202) 362-0700. Internet: www.cal.org.

(3) Comprehensive Adult Student Assessment Systems (CASAS) Life and Work Listening Assessments (LW Listening). Forms 981L, 982L, 983L, 984L, 985L, and 986L are approved for use on paper and through the computer-based delivery format. Publisher: CASAS, 5151 Murphy Canyon Road, Suite 220, San Diego, CA 92123-4339. Telephone: (800) 255-1036. Internet: www.casas.org.

(4) Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036. Internet: www.casas.org.

(5) Tests of Adult Basic Education Complete Language Assessment System-English (TABE/CLAS-E). Forms A and B are approved for use on paper and through a computer-based delivery format. Publisher: Data Recognition Corporation—CTB, 13490 Bass Lake Road, Maple Grove, MN 55311. Telephone: (800) 538-9547. Internet: www.tabetest.com.

REVOCATION OF TESTS:

Under certain circumstances, the Secretary may revoke the determination that a test is suitable (see § 462.12(e)). If the Secretary revokes the determination of suitability, the Secretary announces the revocation, as well as the date by which States and local eligible providers must stop using the revoked test, through a notice published in the Federal Register and posted on the internet at www.nrsweb.org.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 29 U.S.C. 3292.

Amy Loyd,
Assistant Secretary for Career, Technical, and Adult Education.

[FR Doc. 2022-20684 Filed 9-22-22; 8:45 am]

BILLING CODE 4000-01-P